DEPARTMENT OF ENERGY

Federal Energy Regulatory Commission

[Docket No. RP99-474-002]

Natural Gas Pipeline Company of America; Notice of Compliance Filing

December 18, 2000.

Take notice that on September 29, 2000, Natural Gas Pipeline Company of America (Natural) tendered its compliance filing with the Commission's Order on Accepting Tariff Sheets Subject to Conditions in Docket No. RP99-474-000] [88 FERC ¶ 61,312 (1999)] issued on September 30, 1999 (September 30 Order).

Natural states that the purpose of this filing is to comply with one of the requirements of the September 30 Order, which required Natural to file a report detailing the discounts its shippers received for Balancing Service Charged and whether those shippers were affiliated with Natural.

Any person desiring to protest said filing should file a protest with the Federal Energy Regulatory Commission, 888 First Street, NE., Washington, DC 20426 in accordance with Section 385.211 of the Commission's Rules and Regulations. All such protests must be filed on or before December 26, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 8 CFR 385.200(1)(a)(1(iii) and the instructions on the Commission's web site at http://www.ferc.fed.us/efi/doorbell.htm.

David P. Boergers,
Secretary.

[FR Doc. 00-32695 Filed 12-21-00; 8:45 am]

BILLING CODE 6717-01-M